DEPARTMENT OF STATE

[Public Notice 8142]

Advisory Committee on Historical Diplomatic Documentation; Notice of Meeting

Summary: The Advisory Committee on Historical Diplomatic Documentation will meet on February 25-26, June 3-4, September 9-10, and December 9-10, 2013, at the Department of State, 2201 “C” Street NW., Washington, DC. The Committee's sessions in the afternoon of Monday, February 25, 2013; in the morning of Tuesday, February 26, 2013; in the afternoon of Monday, June 3, 2013; in the morning of Tuesday, June 4, 2013; in the afternoon of Monday, September 9, 2013; in the morning of Tuesday, September 10, 2013; in the afternoon of Monday, December 9, 2013; and in the morning of Tuesday, December 10, 2013, will be closed in accordance with Section 10(d) of the Federal Advisory Committee Act (Pub. L. 92-463). The agenda calls for discussions of agency declassification decisions concerning the Foreign Relations series and other declassification issues. These are matters properly classified and not subject to public disclosure under 5 U.S.C. 552b(c)(1) and the public interest requires that such activities be withheld from disclosure.

The Committee will meet in open session from 11:00 a.m. until 12:00 noon in Conference Room 1205 of the Department of State, 2201 “C” Street NW., Washington, DC, on the following dates: Monday, February 25, 2013; Monday, June 3, 2013; Monday, September 9, 2013; and Monday, December 9, 2013, to discuss unclassified matters concerning declassification and transfer of Department of State records to the National Archives and Records Administration and the status of the Foreign Relations series.

Prior notification and a valid government-issued photo ID (such as driver's license, passport, U.S. government or military ID) are required for entrance into the building. Members of the public planning to attend meetings on the following dates, please RSVP as follows: for February 25, please notify Colby Prevost, Office of the Historian (202-663-1147) no later than February 21, 2013; for June 3, please notify Colby Prevost, Office of the Historian (202-663-1147) no later than May 30, 2013; for September 9, please notify Colby Prevost, Office of the Historian (202-663-1147) no later than September 5, 2013and for December 9, please notify Colby Prevost, Office of the Historian (202-663-1147) no later than December 5, 2013. When responding, please provide date of birth, valid government-issued photo identification number and type (such as driver's license number/state, passport number/country, or U.S. government ID number/agency or military ID number/branch), and relevant telephone numbers. If you cannot provide one of the specified forms of ID, please consult with Colby Prevost for acceptable alternative forms of picture identification.

In addition, any requests for reasonable accommodation should be made no later than the following dates: February 19 for the February 25-26 meeting; May 28 for the June 3-4 meeting; September 3 for the September 9-10 meeting; and December 3 for the December 9-10 meeting. Requests for reasonable accommodation received after those dates will be considered, but might be impossible to fulfill.

Personal data is requested pursuant to Public Law 99-399 (Omnibus Diplomatic Security and Antiterrorism Act of 1986), as amended; Public Law 107-56 (USA PATRIOT Act); and Executive Order 13356. The purpose of the collection is to validate the identity of individuals who enter Department facilities. The data will be entered into the Visitor Access Control System (VACS-D) database. Please see the Security Records System of Records Notice (State-36) at http://www.state.gov/documents/organization/103419.pdf, for additional information.

Questions concerning the meeting should be directed to Dr. Stephen P. Randolph, Executive Secretary, Advisory Committee on Historical Diplomatic Documentation, Department of State, Office of the Historian, Washington, DC 20520, telephone (202) 663-1123, (email history@state.gov).

Dated: December 10, 2012.
Stephen P. Randolph,
Executive Secretary, Advisory Committee on Historical Diplomatic Documentation, Department of State.

[FR Doc. 2013-00165 Filed 1-7-13; 8:45 am]

BILLING CODE 4710-11-P